DEPARTMENT OF ENERGY

Federal Energy Regulatory Commission

Notice of Intent To File an Application for a New License

December 12, 2001.

a. Type of Filing: Notice of Intent to File An Application for a New License.

b. Project No.: 7321.

c. Date Filed: November 20, 2001.

d. Submitted By: Erie Boulevard Hydro, L.P.—current licensee.

e. Name of Project: Macomb Hydroelectric Project

f. Location: On the Salmon River near the town of Malone, in Franklin County, New York. The project does not occupy federal lands.

g. Filed Pursuant to: Section 15 of the Federal Power Act.

h. Licensee Contact: Jerry L. Sabattis, Erie Boulevard Hydropower, L.P., 225 Greenfield Parkway, Suite 201, Liverpool, NY 13088 (315) 413-2787.

i. FERC Contact: Jarry Kosa, jarrad.kosa@ferc.fed.us, (202) 219-2831.

j. Effective date of current license: December 1, 1956.

k. Expiration date of current license: November 30, 2006.

l. Description of the Project: The project consists of the following existing facilities: (1) A 77-foot-long, 32-foot-high concrete dam; (2) two 38-foot-long, 25-foot-high intake structures; (3) two 6-foot-diameter, 60-foot-long steel gated waste tubes; (4) a reservoir (Lamica Lake) having a surface area of 14 acres at a spillway crest elevation of 570.7 feet msl; (5) a 6.5-foot-diameter, 60-foot-long pipeline; (6) a powerhouse containing a generating unit having an installed capacity of 1,000 kW; (7) a tailrace; (8) a 370-foot-long, 34.5-kV transmission line; and (9) other appurtenances.

m. Each application for a new license and any competing license applications must be filed with the Commission at least 24 months prior to the expiration of the existing license. All applications for license for this project must be filed by November 30, 2004.

Linwood A. Watson, Jr.,
Acting Secretary.

[FR Doc. 01-31123 Filed 12-17-01; 8:45 am]

BILLING CODE 6717-01-P